ENVIRONMENTAL PROTECTION AGENCY

[OPPTS-140291; FRL-6798-4]

Access to Confidential Business Information by Science Applications International Corporation (SAIC)

AGENCY: Environmental Protection Agency (EPA).

ACTION: Notice.

SUMMARY: EPA has authorized Science Applications International Corporation (SAIC) of Reston, VA access to information which has been submitted to EPA under sections 4, 5, 6, 8, 12, and 13 of the Toxic Substances Control Act (TSCA), and section 1018 of the Residential Lead-Based Paint Reduction Act of 1992. Some of the information may be claimed or determined to be confidential business information (CBI).

DATES: ÿ7EAccess to the confidential data submitted to EPA under sections 4, 5, 6, 8, 12, and 13 of TSCA, and section 1018 of the Residential Lead-Based Paint Reduction Act of 1992 occurred as a result of an approved waiver dated July 31, 2001, which requested granting SAIC immediate access to sections 4, 5, 6, 8, 12, and 13 of TSCA CBI, and section 1018 of the Residential Lead-Based Paint Reduction Act of 1992.

FOR FURTHER INFORMATION CONTACT: ÿ7E Barbara A. Cunningham, Acting Director, Environmental Assistance Division (7408), Office of Pollution Prevention and Toxics, Environmental Protection Agency, 1200 Pennsylvania Ave., NW., Washington, DC 20460; telephone number: (202) 554-1404; e-mail address: TSCA-Hotline@epamail.epa.gov.

SUPPLEMENTARY INFORMATION:

I. Does this Notice Apply to Me?

This action is directed to the public in general. This action may, however, be of interest to “those persons who are or may be required to conduct testing of chemical substances under the Toxic Substances Control Act (TSCA).” Since other entities may also be interested, the Agency has not attempted to describe all the specific entities that may be affected by this action. If you have any questions regarding the applicability of this action to a particular entity, consult the technical person listed under FOR FURTHER INFORMATION CONTACT.

II. How Can I Get Additional Information, Including Copies of This Document or Other Related Documents?

You may obtain electronic copies of this document, and certain other related documents that might be available electronically, from the EPA Internet Home Page at http://www.epa.gov/. To access this document, on the Home Page select “Laws and Regulations” “Regulations and Proposed Rules,” and then look up the entry for this document under the “Federal Register—Environmental Documents.” You can also go directly to the Federal Register listings at http://www.epa.gov/fedrgstr/.

III. What Action Is the Agency Taking?

Under contract number 68-W-99-060, SAIC of 11251 Roger Bacon Drive, Reston, VA, will assist the Office of Pollution Prevention and Toxics (OPPTS) in performing inspections and collecting documentation from the residential real estate sales and rental industry, that could potentially be subject to TSCA CBI claims.

In accordance with 40 CFR 2.306(j), EPA has determined that under EPA contract number 68-W-99-060, SAIC will require access to CBI submitted to EPA under sections 4, 5, 6, 8, 12, and 13 of TSCA, and section 1018 of the Residential Lead-Based Paint Reduction Act of 1992 to perform successfully the duties specified under the contract.

SAIC personnel was given access to information submitted to EPA under sections 4, 5, 6, 8, 12, and 13 of TSCA, and section 1018 of the Residential Lead-Based Paint Reduction Act of 1992. Some of the information may be claimed or determined to be CBI.

Access to the confidential data submitted to EPA under sections 4, 5, 6, 8, 12, and 13 of TSCA, and section 1018 of the Residential Lead-Based Paint Reduction Act of 1992 occurred as a result of an approved waiver dated July 31, 2001, which requested granting SAIC immediate access to sections 4, 5, 6, 8, 12, and 13 of TSCA CBI, and section 1018 of the Residential Lead-Based Paint Reduction Act of 1992. This waiver was necessary to allow SAIC to assist EPA in performing inspections and collecting documentation from the residential real estate sales and rental industry, that could potentially be subject to TSCA CBI claims.

EPA is issuing this notice to inform all submitters of information under sections 4, 5, 6, 8, 12, and 13 of TSCA, and section 1018 of the Residential Lead-Based Paint Reduction Act of 1992, that the Agency will provide SAIC access to these CBI materials on a need-to-know basis only. All access to TSCA CBI under this contract will take place at EPA Headquarters and at the SAIC site located at 11251 Roger Bacon Drive, Reston, VA. No access will occur at the Reston, VA facility until after it has been approved for the storage of TSCA CBI.

SAIC will be required to adhere to all provisions of EPA's TSCA Confidential Business Information Security Manual.

Clearance for access to TSCA CBI under this contract may continue until September 30, 2004.

SAIC personnel will be required to sign nondisclosure agreements and will be briefed on appropriate security procedures before they are permitted access to TSCA CBI.

List of Subjects

Environmental protection, Confidential business information.

Dated: August 29, 2001.
Allan S. Abramson,
Director, Information Management Division, Office of Pollution Prevention and Toxics.

[FR Doc. 01-22759 Filed 9-11-01; 8:45 am]

BILLING CODE 6560-50-S